DEPARTMENT OF LABOR

Employment and Training Administration

[TA-W-82,679]

SST Truck Company, LLC; A Navistar, Inc. Company Truck Specialty Center and Warehouse and Distribution Including On-Site Leased Workers From Employee Solutions and ODW Contract Services, Garland, Texas; Amended Certification Regarding Eligibility To Apply for Worker Adjustment Assistance

In accordance with Section 223 of the Trade Act of 1974, as amended (“Act”), 19 U.S.C. 2273, the Department of Labor issued a Certification of Eligibility To Apply for Worker Adjustment Assistance on June 21, 2013, applicable to workers of SST Truck Company, LLC, A Navistar, Inc. Company, Truck Specialty Center (TSC), including on-site leased workers from Employee Solutions, Garland, Texas. The Notice of Determination was published in the Federal Register on July 5, 2013 (78 FR 40508).

At the request of former workers, the Department reviewed the certification for workers of the subject firm. The workers' firm is engaged in the production and modifications of class 4-8 trucks. The worker group includes workers at 3737 Grader Street and 3737 West Miller Road.

The investigation confirmed that worker separations at SST Truck Company, LLC, a Navistar, Inc. Company, Warehouse and Distribution, including on-site leased workers from ODW Contract Services, Garland, Texas, are attributable to the same shift in production to a foreign country that affected workers in the Truck Specialty Center.

Based on these findings, the Department is amending this certification to include workers from SST Truck Company, LLC, a Navistar, Inc. Company, Warehouse and Distribution, including on-site leased workers from ODW Contract Services, Garland, Texas.

The amended notice applicable to TA-W-82,679 is hereby issued as follows:

All workers of SST Truck Company, LLC, A Navistar, Inc. Company, Truck Specialty Center (TSC) and Warehouse and Distribution, including on-site leased workers from Employee Solutions and ODW Contract Services, Garland, Texas, who became totally or partially separated from employment on or after April 18, 2012 through June 21, 2015, and all workers in the group threatened with total or partial separation from employment on the date of certification through June 21, 2015, are eligible to apply for adjustment assistance under Chapter 2 of Title II of the Trade Act of 1974, as amended.

Signed in Washington, DC, this 20th day of February, 2015.
Michael W. Jaffe,
Certifying Officer, Office of Trade Adjustment Assistance.

[FR Doc. 2015-06247 Filed 3-18-15; 8:45 am]

BILLING CODE 4510-FN-P